DEPARTMENT OF ENERGY

[Docket Nos. EA-314 & EA-315]

Applications To Export Electric Energy; BP Energy Company

AGENCY: Office Electricity Delivery and Energy Reliability, DOE.

ACTION: Notice of Applications.

SUMMARY: In separate applications, BP Energy Company (BP Energy) has applied for authority to transmit electric energy from the United States to Mexico and from the United States to Canada pursuant to section 202(e) of the Federal Power Act.

DATES: Comments, protests or requests to intervene must be submitted on or before July 10, 2006.

ADDRESSES: Comments, protests, or requests to intervene should be addressed as follows: Office Electricity Delivery and Energy Reliability (Mail Code OE-20), U.S. Department of Energy, 1000 Independence Avenue, SW., Washington, DC 20585-0350 (FAX 202-586-5860).

FOR FURTHER INFORMATION CONTACT: Xavier Puslowski (Program Office) 202-586-4708 or Michael Skinker (Program Attorney) 202-586-2793.

SUPPLEMENTARY INFORMATION: Exports of electricity from the United States to a foreign country are regulated and require authorization under section 202(e) of the Federal Power Act (FPA) (16 U.S.C. 824a(e)).

On May 22, 2006, BP Energy filed two separate applications with DOE for authority to transmit electric energy from the United States to Mexico and from the United States to Canada. BP Energy is a direct, wholly-owned subsidiary of BP America Production Company, one of the largest oil and natural gas producers in the United States. Some of BP Energy's affiliates own interconnection facilities necessary to deliver power from cogeneration facilities to the grid, but neither BP Energy nor its affiliates own electric transmission facilities in North America or have franchised service territories or captive wholesale or retail customers. The energy BP Energy proposes to deliver to Mexico and Canada will be purchased from electric utilities, power marketers, Federal power marketing agencies, and other utilities in the United States.

In OE Docket No. EA-314, BP Energy proposes to transmit electric energy to Mexico and arrange for the delivery of those exports over the international transmission facilities presently owned by San Diego Gas and Electric Company, El Paso Electric Company, Central Power and Light Company, and Comision Federal de Electricdad, the national utility of Mexico.

In OE Docket No. EA-315, BP Energy proposes to export electric energy to Canada and to arrange for the delivery of those exports over the international transmission facilities presently owned by Basin Electric Power Cooperative, Bonneville Power Administration, Eastern Maine Electric Cooperative, International Transmission Company, Joint Owners of the Highgate Project, Long Sault, Inc., Maine Electric Power Company, Maine Public Service Company, Minnesota Power Inc., Minnkota Power Cooperative, New York Power Authority.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with DOE on or before the date listed above.

Comments on the BP Energy applications to export electric energy to Mexico and Canada should be clearly marked with Docket No. EA-314 or Docket No. EA-315, respectively. Additional copies are to be filed directly with Rhonda Denton, Regulatory Affairs, BP Energy Company, 501 Westlake Park Blvd., Houston, Texas 77079 and Mark R. Haskell, Joseph C. Hall, Morgan, Lewis & Bockius LLP, 1111 Pennsylvania Avenue, NW., Washington, DC 20004.

A final decision will be made on these applications after the environmental impacts have been evaluated pursuant to the National Environmental Policy Act of 1969, and a determination is made by DOE that the proposed actions will not adversely impact on the reliability of the U.S. electric power supply system.

Copies of these applications will be made available, upon request, for public inspection and copying at the address provided above or by e-mailing Odessa Hopkins at Odessa.hopkins@hq.doe.gov.

Issued in Washington, DC, on June 5, 2006.
Anthony J. Como,
Director, Permitting and Siting, Office of Electricity Delivery and Energy Reliability.

[FR Doc. E6-8986 Filed 6-8-06; 8:45 am]

BILLING CODE 6450-01-P